DEPARTMENT OF THE INTERIOR

Office of Surface Mining Reclamation and Enforcement

30 CFR Part 936

[SATS No. OK-033-FOR; Docket ID: OSM-2011-0001]

Oklahoma Regulatory Program

AGENCY: Office of Surface Mining Reclamation and Enforcement, Interior.

ACTION: Proposed rule; public comment period and opportunity for public hearing.

SUMMARY: We, the Office of Surface Mining Reclamation and Enforcement (OSM), are announcing receipt of a proposed amendment to the Oklahoma regulatory program under the Surface Mining Control and Reclamation Act of 1977 (SMCRA or the Act). Oklahoma proposes revisions to its program by adding size limitations for permanent impoundments; adding slope limitations affecting post-mine contours; adding a subsidence allegation reporting requirement; and adding a requirement for bond calculation at renewal. Oklahoma is proposing these additions to its program at its own initiative.

This document provides the times and locations that the Oklahoma program and proposed amendment to that program are available for public inspection, the comment period during which you may submit written comments on the amendment, and the procedures that we will follow for the public hearing, if one is requested.

DATES: We will accept written comments on this amendment until 4 p.m., c.d.t., May 27, 2011. If requested, we will hold a public hearing on the amendment on May 23, 2011. We will accept requests to speak at a hearing until 4 p.m., c.d.t. on May 12, 2011.

ADDRESSES: You may submit comments, identified by SATS No. OK-033-FOR, by any of the following methods:

• E-mail: aclayborne@osmre.gov. Include “SATS No. OK-033-FOR” in the subject line of the message.

• Mail/Hand Delivery: Alfred L. Clayborne, Director, Tulsa Field Office, Office of Surface Mining Reclamation and Enforcement, 1645 South 101st East Avenue, Suite 145, Tulsa, Oklahoma 74128-4629.

• Fax: (918) 581-6419.

• Federal eRulemaking Portal: The amendment has been assigned Docket ID OSM02011-0001. If you would like to submit comments go to http://www.regulations.gov. Follow the instructions for submitting comments.

Instructions: All submissions received must include the agency name and docket number for this rulemaking. For detailed instructions on submitting comments and additional information on the rulemaking process, see the Public Comment Procedures heading of the SUPPLEMENTARY INFORMATION section of this document.

Docket: For access to the docket to review copies of the Oklahoma regulations, this amendment, a listing of any scheduled public hearings, and all written comments received in response to this document, you must go to the address listed below during normal business hours, Monday through Friday, excluding holidays. You may receive one free copy of the amendment by contacting OSM's Tulsa Field Office; or you can view the full text of the program amendment available for you to read at http://www.regulations.gov.

Alfred L. Clayborne, Director, Tulsa Field Office, Office of Surface Mining Reclamation and Enforcement, 1645 South 101st East Avenue, Suite 145, Tulsa, Oklahoma 74128-4629, Telephone: (918) 581-6430, E-mail: aclayborne@osmre.gov.

In addition, you may review a copy of the amendment during regular business hours at the following location: Oklahoma Department of Mines, 2915 N. Classen Blvd., Suite 213, Oklahoma City, Oklahoma 73106-5406, Telephone: (405) 427-3859.

FOR FURTHER INFORMATION CONTACT: Alfred L. Clayborne, Director, Tulsa Field Office. Telephone: (918) 581-6430. E-mail: aclayborne@osmre.gov.

SUPPLEMENTARY INFORMATION:

I. Background on the Oklahoma Program

II. Description of the Proposed Amendment

III. Public Comment Procedures

IV. Procedural Determinations

I. Background on the Oklahoma Program

Section 503(a) of the Act permits a State to assume primacy for the regulation of surface coal mining and reclamation operations on non-Federal and non-Indian lands within its borders by demonstrating that its program includes, among other things, “* * * State law which provides for the regulation of surface coal mining and reclamation operations in accordance with the requirements of this Act * * *; and rules and regulations consistent with regulations issued by the Secretary pursuant to this Act.” See 30 U.S.C. 1253(a)(1) and (7). On the basis of these criteria, the Secretary of the Interior conditionally approved the Oklahoma program on January 19, 1981. You can find background information on the Oklahoma program, including the Secretary's findings, the disposition of comments, and the conditions of approval of the Oklahoma program in the January 19, 1981, Federal Register (46 FR 4902). You can also find later actions concerning the Oklahoma program and program amendments at 30 CFR 936.10, 936.15, and 936.16.

II. Description of the Proposed Amendment

By letter dated February 25, 2011, (Administrative Record No. OK-1000), Oklahoma sent us amendments to its Program under SMCRA (30 U.S.C. 1201 et seq.) at its own initiative. Below is a summary of the changes proposed by Oklahoma. The full text of the program amendment is available for you to read at the locations listed above under ADDRESSES or at http://www.regulations.gov.

A. Oklahoma Administrative Code 460:20-43-14(b)(7) Size Limitations on Permanent Impoundments

Oklahoma's regulations require both temporary and permanent impoundments to adhere to minimum criteria and design certification. Their proposed addition requires a permanent impoundment to have three (3) acres of drainage per acre-foot of storage in the impoundment or a water balance (precipitation runoff versus lake evaporation) showing that the length of time for the impoundment to fill and maintain a stable water level does not exceed a maximum of five (5) years. The full text of the program amendment is available for you to read at the locations listed above under ADDRESSES or at http://www.regulations.gov.

B. Oklahoma Administrative Code 460:20-43-38(1) Approximate Original Contour

Oklahoma's regulations give general backfilling and grading requirements to achieve approximate original contour. Their proposed addition will add specific requirements relating to post mining slopes. Previously mined areas or areas deemed suitable for reforestation could be exempt from these standards if justified in writing by the applicant based on site conditions. The full text of the program amendment is available for you to read at the locations listed above under ADDRESSES or at http://www.regulations.gov.

C. Oklahoma Administrative Code 460:20-43-47(c)(3) & 460:20-45-47(c)(6) Subsidence Reporting

Oklahoma's regulations require the operator to comply with all provisions of the approved subsidence control plan. Their proposed addition would require the operator to report to the Department all instances of alleged subsidence within 30 calendar days. The report must be in writing. The report must identify the location of the alleged subsidence in relation to the underground mine workings. The full text of the program amendment is available for you to read at the locations listed above under ADDRESSES or at http://www.regulations.gov.

D. Oklahoma Administrative Code 460:20-17-4(b)(2)(C) Requirement for Bond Calculation at Renewal

Oklahoma's regulations have minimum requirements for permit renewal. Their proposed addition would require a current bond calculation (less than 60 days old) detailing the costs to reclaim the permit by a third party under the approved worst case bond scenario and evidence that the performance bond in effect for the operation will continue in full force and effect for any renewal requested, as well as any additional bond required by the Department pursuant to Subchapter 37 of this Chapter. The full text of the program amendment is available for you to read at the locations listed above under ADDRESSES or at http://www.regulations.gov.

III. Public Comment Procedures

Under the provisions of 30 CFR 732.17(h), we are seeking your comments on whether Oklahoma's proposed amendment satisfies the applicable program approval criteria of 30 CFR 732.15. If we approve the amendment, it will become part of Oklahoma's State Program.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, e-mail address, or other personal identifying information in your comment, you should be aware that your entire comment including your personal identifying information may be made publicly available at any time. While you can ask us in your comment to withhold your personal identifying information from public review, we cannot guarantee that we will be able to do so.

Public Hearing

If you wish to speak at the public hearing, contact the person listed under FOR FURTHER INFORMATION CONTACT by 4 p.m., c.d.t. on May 12, 2011. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public; if possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSM for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 936

Intergovernmental relations, Surface mining, Underground mining.

Dated: March 4, 2011.
Ervin J. Barchenger,
Regional Director, Mid-Continent Region.

[FR Doc. 2011-10142 Filed 4-26-11; 8:45 am]

BILLING CODE 4310-05-P